DEPARTMENT OF VETERANS AFFAIRS

Genomic Medicine Program Advisory Committee; Notice of Meeting

The Department of Veterans Affairs (VA) gives notice under the Federal Advisory Committee Act, 5 U.S.C. App. 2, that the Genomic Medicine Program Advisory Committee will meet on May 22, 2017, at the Hilton Garden Inn, Washington, DC, U.S. Capitol, 1225 1st Street NE., Washington, DC 20002. The meeting will convene at 9:00 a.m. and adjourn at 4:30 p.m. The meeting is open to the public.

The purpose of the Committee is to provide advice and make recommendations to the Secretary of VA on using genetic information to optimize medical care for Veterans and to enhance development of tests and treatments for diseases particularly relevant to Veterans.

The Committee will receive program updates and continue to provide insight into optimal ways for VA to incorporate genomic information into its health care program while applying appropriate ethical oversight and protecting the privacy of Veterans. The meeting focus will be on updates on the progress and planned characterization of the Million Veteran Program (MVP) samples and data access for the MVP, as well as updates from other national research programs such as the Kaiser Permanante. The Committee will also receive an update from the VA Clinical Genomics Service. Public comments will be received at 3:30 p.m. and are limited to 5 minutes each. Individuals who speak are invited to submit a 1-2 page summary of their comments for inclusion in the official meeting record to Dr. Sumitra Muralidhar, Designated Federal Officer, 810 Vermont Avenue NW., Washington, DC, 20420, or by email at sumitra.muralidhar@va.gov. Any member of the public seeking additional information should contact Dr. Muralidhar at (202) 443-5679.

Dated: March 17, 2017.
LaTonya L. Small,
Advisory Committee Management Officer.

[FR Doc. 2017-05664 Filed 3-21-17; 8:45 am]

BILLING CODE P